DEPARTMENT OF HOMELAND SECURITY

Federal Emergency Management Agency

44 CFR Part 67

[Docket ID FEMA-2016-0002; Internal Agency Docket Nos. FEMA-B-1051 and 1060]

Proposed Flood Elevation Determinations for Will County, Illinois, and Incorporated Areas; Withdrawal

AGENCY: Federal Emergency Management Agency, DHS.

ACTION: Proposed rule; withdrawal.

SUMMARY: The Federal Emergency Management Agency (FEMA) is withdrawing its proposed rule concerning proposed flood elevation determinations for Will County, Illinois, and Incorporated Areas.

DATES: The proposed rules published on May 26, 2009 and July 2, 2009 (74 FR 24738 and 74 FR 31656), are withdrawn effective July 5, 2016.

ADDRESSES: You may submit comments, identified by Docket Nos. FEMA-B-1051 and 1060 to Rick Sacbibit, Chief, Engineering Services Branch, Federal Insurance and Mitigation Administration, FEMA, 500 C Street SW., Washington, DC 20472, (202) 646-7659, or (email) patrick.sacbibit@fema.dhs.gov.

FOR FURTHER INFORMATION CONTACT: Rick Sacbibit, Chief, Engineering Services Branch, Federal Insurance and Mitigation Administration, FEMA, 500 C Street SW., Washington, DC 20472, (202) 646-7659, or (email) patrick.sacbibit@fema.dhs.gov;

SUPPLEMENTARY INFORMATION: On May 26, 2009 and July 2, 2009, FEMA published documents proposing flood elevation determinations along one or more flooding sources in City of Joliet, Unincorporated Areas of Will County, and the Villages of Channahon, Frankfort and Manhattan, Illinois (74 FR 24738 at 24741 and 74 FR 31656 at 31658). FEMA is withdrawing the proposed rules because FEMA has or will be issuing a Revised Preliminary Flood Insurance Rate Map, and if necessary a Flood Insurance Study report, featuring updated flood hazard information. A Notice of Proposed Flood Hazard Determinations will be published in the Federal Register and in the affected community's local newspaper following issuance of the Revised Preliminary Flood Insurance Rate Map.

Authority: 42 U.S.C. 4104; 44 CFR 67.4.

Dated: May 19, 2016.
Roy E. Wright,
Deputy Associate Administrator for Insurance and Mitigation, Department of Homeland Security, Federal Emergency Management Agency.

[FR Doc. 2016-15747 Filed 7-1-16; 8:45 am]

BILLING CODE 9110-12-P